DEPARTMENT OF COMMERCE

International Trade Administration

[A-475-828; A-557-809; A-565-801]

Stainless Steel Butt-Weld Pipe Fittings From Italy, Malaysia, and the Philippines: Final Results of the Expedited Fourth Sunset Review of the Antidumping Duty Orders

AGENCY: Enforcement and Compliance, International Trade Administration, Department of Commerce.

SUMMARY: As a result of these expedited sunset reviews, the Department of Commerce (Commerce) finds that revocation of the antidumping (AD) duty orders on stainless steel butt-weld pipe fittings from Italy, Malaysia, and the Philippines would be likely to lead to continuation or recurrence of dumping at the levels indicated in the “Final Results of Sunset Review” section of this notice.

DATES: Applicable March 7, 2023.

FOR FURTHER INFORMATION CONTACT: Emily Bradshaw, AD/CVD Operations, Office VI, Enforcement and Compliance, International Trade Administration, U.S. Department of Commerce, 1401 Constitution Avenue NW, Washington, DC 20230; (202) 482-4732 respectively.

SUPPLEMENTARY INFORMATION:

Background

On November 1, 2022, Commerce published the notice of initiation of the fourth sunset reviews of the Orders,¹ pursuant to section 751(c) of the Tariff Act of 1930, as amended (the Act).² After the date of publication of the Initiation Notice, Commerce received a notice of intent to participate from Core Pipe Products, Inc.³ within the deadline specified in 19 CFR 351.218(d)(1)(i). Core Pipe Products, Inc. (the domestic interested party) claimed interested party status under section 771(9)(C) of the Act as a domestic producer engaged in the production in the United States of stainless steel butt-weld pipe fittings.

¹ See Antidumping Duty Orders: Stainless Steel Butt-Weld Pipe Fittings from Italy, Malaysia, and the Philippines, 66 FR 11257 (February 23, 2001) (collectively, Orders).

² See Initiation of Five-Year (Sunset) Review, 87 FR 65746 (November 1, 2022) (Initiation Notice).

³ See Domestic Interested Party's Letter, “Notice of Intent To Participate,” dated November 16, 2022.

Commerce received a substantive response from the domestic interested party within the 30-day deadline specified in 19 CFR 351.218(d)(3)(i).⁴ We did not receive a substantive response from any other interested party in these proceedings, and no party requested a hearing.

⁴ See Domestic Interested Party's Letters, “Stainless Steel Butt-Weld Pipe Fittings From Italy—Domestic Interested Party's Substantive Response to Notice of Initiation” dated December 1, 2022 (Italy Substantive Response); “Stainless Steel Butt-Weld Pipe Fittings From Malaysia—Domestic Interested Party's Substantive Response to Notice of Initiation” dated December 1, 2022 (Malaysia Substantive Response); “Stainless Steel Butt-Weld Pipe Fittings From the Philippines—Domestic Interested Party's Substantive Response to Notice of Initiation,” dated December 1, 2022 (Philippines Substantive Response) (collectively, Substantive Response).

On December 20, 2022, Commerce notified the U.S. International Trade Commission that it did not receive an adequate substantive response from respondent interested parties.⁵ As a result, pursuant to section 751(c)(3)(B) of the Act and 19 CFR 351.218(e)(1)(ii)(C)(2), Commerce conducted expedited (120-day) sunset reviews of these Orders.

⁵ See Commerce's Letter, “Sunset Reviews Initiated on November 1, 2022,” dated December 20, 2022.

Scope of the Orders

The products covered by these Orders are stainless steel butt-weld pipe fittings. For a complete description of the scope of these orders, see the Issues and Decision Memorandum.⁶

⁶ See Memorandum, “Issues and Decision Memorandum for the Expedited Sunset Review of the Antidumping Duty Orders on Stainless Steel Butt-Weld Pipe Fittings from Italy, Malaysia and the Philippines,” dated concurrently with, and hereby adopted by, this notice (Issues and Decision Memorandum).

Analysis of Comments Received

All issues raised in these sunset reviews are addressed in the Issues and Decision Memorandum, including the likelihood of continuation or recurrence of dumping and the magnitude of the margins of dumping likely to prevail if the Orders were revoked.⁷ The Issues and Decision Memorandum is a public document and is on file electronically via Enforcement and Compliance's Antidumping and Countervailing Duty Centralized Electronic Services System (ACCESS). ACCESS is available to registered users at https://access.trade.gov. In addition, a complete version of the Issues and Decision Memorandum can be accessed directly at https://access.trade.gov/public/FRNoticesListLayout.aspx.

⁷ Id.

Final Results of Sunset Reviews

Pursuant to sections 751(c)(1) and 752(b) of the Act, Commerce determines that revocation of the Orders would be likely to lead to the continuation or recurrence of dumping, and that the magnitude of the margins of dumping likely to prevail would be weighted-average margins of up to the following percentages:

Country | Weighted- average dumping margin (percent)
Italy | 26.59
Malaysia | 7.51
Philippines | 33.81

Administrative Protective Order

This notice serves as the only reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

We are issuing and publishing this notice in accordance with sections 751(c), 752(b), and 777(i)(1) of the Act.

Dated: March 1, 2023.
Abdelali Elouaradia,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of Dumping Margin Likely To Prevail

VII. Recommendation

[FR Doc. 2023-04663 Filed 3-6-23; 8:45 am]

BILLING CODE 3510-DS-P